DEPARTMENT OF TRANSPORTATION

Federal Aviation Administration

14 CFR Part 39

[Docket No. 2003-CE-04-AD; Amendment 39-13239; AD 2003-14-20]

RIN 2120-AA64

Airworthiness Directives; AeroSpace Technologies of Australia Pty Ltd. Models N22B and N24A Airplanes

AGENCY: Federal Aviation Administration, DOT.

ACTION: Final rule.

SUMMARY: This amendment supersedes Airworthiness Directive (AD) 82-12-06, which applies to certain AeroSpace Technologies of Australia Pty Ltd. (ASTA) Models N22B and N24A airplanes. AD 82-12-06 currently requires repetitive visual inspections of all rudder control lever shaft assemblies for cracks and discrepancies, and, if cracks or discrepancies are found, it requires replacement with new or serviceable rudder control shafts, and a check of the fit of all rod end bearings in lever shafts. AD 82-12-06 also allows you to inspect all lever shafts by magnetic particle inspection or dye penetrant methods as terminating action for the repetitive visual inspections. This AD is the result of recent reports of failures of the upper control lever torque shaft due to fatigue loading on the affected airplanes, including those that included the terminating actions. This AD requires more detailed repetitive inspections (than there are in AD 82-12-06) of the upper and lower rudder pedal torque shafts and a one-time inspection for discrepancies in the thickness of the lever shaft side plates with appropriate follow-up action. The actions specified by this AD are intended to detect and correct cracks in the rudder control lever torque shafts and discrepancies in the thickness of the lever shaft side plates, which could result in failure of the rudder control lever torque shaft. Such failure could lead to reduced controllability of the airplane.

DATES: This AD becomes effective on September 8, 2003.

The Director of the Federal Register approved the incorporation by reference of certain publications listed in the regulations as of September 8, 2003.

ADDRESSES: You may get the service information referenced in this AD from Nomad Operations, Aerospace Support Division, Boeing Australia, PO Box 767, Brisbane, QLD 4000 Australia; telephone 61 7 3306 3366; facsimile 61 7 3306 3111. You may view this information at the Federal Aviation Administration (FAA), Central Region, Office of the Regional Counsel, Attention: Rules Docket No. 2003-CE-04-AD, 901 Locust, Room 506, Kansas City, Missouri 64106; or at the Office of the Federal Register, 800 North Capitol Street, NW., suite 700, Washington, DC.

FOR FURTHER INFORMATION CONTACT: Ron Atmur, Aerospace Engineer, FAA, Los Angeles Aircraft Certification Office, 3960 Paramount Boulevard, Lakewood, California 90712; telephone (562) 627-5224; facsimile (562) 627-5210.

SUPPLEMENTARY INFORMATION:

Discussion

Has FAA taken any action to this point? Reports of cracking and other discrepancies on rudder control lever shaft assemblies on certain ASTA Models N22B and N24A airplanes caused us to issue AD 82-12-06, Amendment 39-4399. AD 82-12-06 currently requires the following on certain ASTA Models N22B and N24A airplanes:

—Repetitively inspecting visually all rudder control lever shafts for cracking;

—If cracks are found, before further flight, replacing with new or serviceable rudder control shafts;

—Checking for clearance of the fit of all rod end bearings in lever shafts; and

—Discontinuing the repetitive visual inspections when lever shafts are inspected either by magnetic particle inspection or dye penetrant methods.

What has happened since AD 82-12-06 to initiate this proposed action? The Civil Aviation Safety Authority (CASA), which is the airworthiness authority for Australia, recently notified FAA of the need to change AD 82-12-06. The CASA reports failures of the rudder control lever shaft. All the failures have occurred during ground operations and nosewheel steering/rudder loads are now considered the primary cause of the failure.

Some of the failures occurred on airplanes where the terminating action of AD 82-12-06 was incorporated.

What is the potential impact if FAA took no action? This condition, if not detected and corrected, could result in failure of the rudder control lever torque shaft. Such failure could lead to reduced controllability of the airplane.

Has FAA taken any action to this point? We issued a proposal to amend part 39 of the Federal Aviation Regulations (14 CFR part 39) to include an AD that would apply to certain ASTA Models N22B and N24A. This proposal was published in the Federal Register as a notice of proposed rulemaking (NPRM) on April 29, 2003 (68 FR 22636). The NPRM proposed to require you to repetitively inspect, using either dye penetrant or magnetic particle methods and measurements, rudder control lever shafts for cracks; inspect (one-time) all lever shaft side plates by measuring the thickness; and if cracks or discrepancies in thickness are found, replace unserviceable parts with new or serviceable parts.

Was the public invited to comment? The FAA encouraged interested persons to participate in the making of this amendment. We did not receive any comments on the proposed rule or on our determination of the cost to the public.

FAA's Determination

What is FAA's final determination on this issue? After careful review of all available information related to the subject presented above, we have determined that air safety and the public interest require the adoption of the rule as proposed except for minor editorial corrections. We have determined that these minor corrections:

—Provide the intent that was proposed in the NPRM for correcting the unsafe condition; and

—do not add any additional burden upon the public than was already proposed in the NPRM.

How does the revision to 14 CFR part 39 affect this AD? On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How many airplanes does this AD impact? We estimate that this AD affects 10 airplanes in the U.S. registry.

What is the cost impact of this AD on owners/operators of the affected airplanes? We estimate the following costs to accomplish the initial inspection:

Labor cost | Parts cost | Total cost per airplane | Total cost on U.S. operators
12 workhours × $60 per hour = $720 | Not Applicable | $720 | 10 × $720 = $7,200.

We estimate the following costs to accomplish any necessary repetitive inspections:

Labor cost | Parts cost | Total cost per airplane
2 workhours × $60 per hour = $120 | Not Applicable | $120

We estimate the following costs to accomplish any necessary lever shaft replacements that would be required based on the results of the proposed inspections. We have no way of determining the number of airplanes that may need such replacement:

Labor cost | Parts cost | Total cost per airplane
12 workhours × $60 per hour = $720 | $930 | $720 + $930 = $1,650.

We estimate the following costs to accomplish any necessary lever shaft side plate replacements that would be required based on the results of the proposed inspection. We have no way of determining the number of airplanes that may need such replacement:

Labor cost | Parts cost | Total cost per airplane
12 workhours × $60 per hour = $720 | $930 | $720 + $930 = $1,650.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 82-12-06, Amendment 39-4399, and by adding a new AD to read as follows:

2003-14-20 Aerospace Technologies of Australia PTY LTD.: Amendment 39-13239; Docket No. 2003-CE-04-AD; Supersedes AD 82-12-06, Amendment 39-4399.

(a) What airplanes are affected by this AD? This AD affects Models N22B and N24A airplanes, all serial numbers, that are certificated in any category.

(b) Who must comply with this AD? Anyone who wishes to operate any of the airplanes identified in paragraph (a) of this AD must comply with this AD.

(c) What problem does this AD address? The actions specified by this AD are intended to detect and correct cracks in the rudder control lever torque shafts and discrepancies in the thickness of the lever shaft side plates, which could result in failure of the rudder control lever torque shaft. Such failure could lead to reduced controllability of the airplane.

(d) What actions must I accomplish to address this problem? To address this problem, you must accomplish the following:

Actions | Compliance | Procedures
(1) Inspect the rudder control lever shafts, part numbers (P/N) 2/N-45-1102, 1/N-45-1103, and 1/N-45-1104 (or FAA-approved equivalent part numbers) for cracks. Use dye penetrant while the shaft is installed; or either dye penetrant inspection or magnetic particle methods if the shaft is removed | Within the next 100 hours time-in-service (TIS) after September 8, 2003 (the effective date of this AD), unless already accomplished | In accordance with Nomad Alert Service Bulletin ANMD-27-51, dated September 13, 2002, and the applicable maintenance manual.
(2) Inspect all lever shaft side plates on P/Ns 2/N-45-1102, 1/N-45-1103, and 1/N-45-1104 (or FAA-approved equivalent part numbers) by measuring the thickness for discrepancies | Within the next 100 hours TIS after September 8, 2003 (the effective date of this AD), unless already accomplished | In accordance with Nomad Alert Service Bulletin ANMD-27-51, dated September 13, 2002, and the applicable maintenance manual.
(3) Visually inspect all rudder control lever shafts P/Ns 2/N-45-1102, 1/N-45-1103, and 1/N-45-1104 (or FAA-approved equivalent part numbers) for cracks | Repetitively inspect at intervals not to exceed 100 hours TIS after the inspection required in paragraph (d)(1) of this AD | In accordance with Nomad Alert Service Bulletin ANMD-27-51, dated September 13, 2002, and the applicable maintenance manual.
(4) If damage is found during any inspection required by this AD (i) For lever shafts found with crack damage, replace with new or serviceable items | Prior to further flight after any inspection required by this AD | In accordance with Nomad Alert Service Bulletin ANMD-27-51, dated September 13, 2002, and the applicable maintenance manual.
(ii) For discrepancies in the thickness of lever shaft side plates, obtain a repair scheme from the manufacturer through FAA at the address specified in paragraph (e) of this AD and incorporate this repair scheme
(iii) Repairable and nonrepairable damage is defined in the service information

(e) Can I comply with this AD in any other way?

(1) To use an alternative method of compliance or adjust the compliance time, follow the procedures in 14 CFR 39.13. Send these requests to the Manager, Los Angeles Aircraft Certification Office. For information on any already approved alternative methods of compliance, contact Ron Atmur, Aerospace Engineer, FAA, Los Angeles Aircraft Certification Office, 3960 Paramount Boulevard, Lakewood, California 90712; telephone (562) 627-5224; facsimile (562) 627-5210.

(2) Alternative methods of compliance approved in accordance with AD 82-12-06, which is superseded by this AD, are not approved as alternative methods of compliance with this AD.

(f) Are any service bulletins incorporated into this AD by reference? Actions required by this AD must be done in accordance with Nomad Alert Service Bulletin ANMD-27-51, dated September 13, 2002. The Director of the Federal Register approved this incorporation by reference under 5 U.S.C. 552(a) and 1 CFR part 51. You may get copies from Nomad Operations, Aerospace Support Division, Boeing Australia, PO Box 767, Brisbane, QLD 4000 Australia; telephone 61 7 3306 3366; facsimile 61 7 3306 3111. You may view copies at the FAA, Central Region, Office of the Regional Counsel, 901 Locust, Room 506, Kansas City, Missouri, or at the Office of the Federal Register, 800 North Capitol Street, NW., suite 700, Washington, DC.

(g) Does this AD action affect any existing AD actions? This amendment supersedes AD 82-12-06, Amendment 39-4399.

Note: The subject of this AD is addressed in Australian AD GAF-N22/44, dated November 14, 2002.

(h) When does this amendment become effective? This amendment becomes effective on September 8, 2003.

Issued in Kansas City, Missouri, on July 10, 2003.
Dorenda D. Baker,
Acting Manager, Small Airplane Directorate, Aircraft Certification Service.

[FR Doc. 03-17945 Filed 7-18-03; 8:45 am]

BILLING CODE 4910-13-P